DEPARTMENT OF THE INTERIOR

National Park Service

[NPS-WASO-NAGPRA-NPS0032323; PPWOCRADN0-PCU00RP14.R50000]

Notice of Inventory Completion: U.S. Department of the Interior, Bureau of Land Management, Alaska State Office, Anchorage, AK

AGENCY: National Park Service, Interior.

ACTION: Notice.

SUMMARY: The U.S. Department of the Interior, Bureau of Land Management, Alaska State Office (BLM) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the BLM. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the BLM at the address in this notice by August 23, 2021.

FOR FURTHER INFORMATION CONTACT: Robert E. King, Bureau of Land Management, Alaska State Office, 222 W 7th Avenue, #13, Anchorage, AK 99513, telephone (907) 271-5510, email r2king@blm.gov.

SUPPLEMENTARY INFORMATION: Notice is here given in accordance with the Native American Graves Protection and Repatriation Act (NAGPRA), 25 U.S.C. 3003, of the completion of an inventory of human remains and associated funerary objects under the control of the U.S. Department of the Interior, Bureau of Land Management, Alaska State Office, Anchorage, AK. The human remains and associated funerary objects were removed from Unalaska Island and Amaknak Island in the Eastern Aleutian Islands, AK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the BLM with the help of the University of Alaska Museum of the North professional staff in consultation with representatives of the Qawalangin Tribe of Unalaska.

History and Description of the Remains

In 1948, human remains representing at minimum, one individual were removed from the Chernofski site on Unalaska Island, Eastern Aleutian Islands, AK. The work was done as part of the Harvard Peabody Museum's Aleutian Expedition of 1948, led by Harvard University graduate student William S. Laughlin. The Harvard Peabody Museum felt it had authorization for the work under a contract to partially fund the 1948 Expedition, but it obtained an Antiquities Act Permit for work during a second season in 1949, due to uncertainty about the authorization for the 1948 work. The human remains of the one individual removed in 1948 were accessioned by the Harvard Peabody Museum, where they remained until 2017, when they were transferred to the Bureau of Land Management in Alaska and placed in their current location at the University of Alaska Museum of the North. The human remains consist of a single mandible from an adult of unknown sex. No known individual was identified. The one associated funerary object is the fragment of a ground stone lamp.

The site is more than 200 years old; its actual age unknown. The stone lamp fragment is consistent with items found in other archeological sites more than 200 years old in the Eastern Aleutian Islands. Based on genetic studies as well as a continuity in artifact styles, scientists view the current aboriginal Unangan population of the Eastern Aleutian Islands as direct descendants of the people who first came to the region 9,000 or more years ago and were never replaced by any other people. This view is consistent with oral traditional information provided by today's Unangan people.

In 1950, human remains representing at minimum, five individuals were removed from the Eider Point Site on Unalaska Island, Eastern Aleutian Islands, AK. That same year, human remains representing one individual were removed from the Amaknak Burial Site on Amaknak Island, near Unalaska Island. Both removals were carried out by Ted P. Bank II, of the University of Michigan, under a Federal permit. Initially, the human remains were placed at the University of Michigan. Around the late 1990s, these six sets of human remains were moved to the Museum of the Aleutians, Unalaska, Alaska. Until 2018, the human remains were believed to be under the control of the U.S. Fish and Wildlife Service (FWS). Accordingly, FWS moved the remains from the Museum of the Aleutians to Anchorage, Alaska sometime prior to 2012. In 2018, when the human remains were transferred to the Bureau of Land Management in Anchorage, AK, the BLM placed them at the University Museum of the North, Fairbanks, AK, where they are currently located. The human remains for each of the six individuals vary as to completeness with none more than 10-15% complete. One individual is represented by a single mandible. The others are represented predominately by smaller bones, including some complete or fragmentary vertebrae, ribs, ulnas, femurs, metatarsals, and tibias. Some of the six individuals are also represented by innominate fragments, one pubis, one sacrum, and one scapula. No known individuals were identified. No associated funerary objects are present.

The remains of the six individuals removed from the Eider Point Site and the Amaknak Burial Site are all over 200 years old; their actual age is unknown. The connection between the remains of these six individuals and today's Unangan people is based on the above cited information.

Sometime between the late 1940s and late 1970s, human remains representing, at minimum, four individuals were removed from an unknown site on Amaknak Island by William Laughlin who, during these years, was associated variously with several universities. These four sets of human remains were found at the Museum of Anthropological Archaeology at the University of Michigan, Ann Arbor, MI. They had been placed there at an unknown date due to Laughlin's collaboration on Eastern Aleutian archeological work with Ted P. Bank II of the University of Michigan. The four individuals are represented by 13 teeth and a single long bone fragment. The four individuals include three adults and one subadult, all of unknown sex. No known individuals were identified. No associated funerary objects are present.

The remains of the four individuals removed from Amaknak Island are all over 200 years old; their actual age is unknown. The connection between the remains of these six individuals and today's Unangan people is based on the above cited information.

Determinations Made by the U.S. Department of the Interior, Bureau of Land Management, Alaska State Office

Officials of the U.S. Department of the Interior, Bureau of Land Management, Alaska State Office have determined that:

• Pursuant to 25 U.S.C. 3001(9), the human remains described in this notice represent the physical remains of 11 individuals of Native American ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and associated funerary object and the Qawalangin Tribe of Unalaska.

Additional Requestors and Disposition

Lineal descendants or representatives of any Indian Tribe or Native Hawaiian organization not identified in this notice that wish to request transfer of control of these human remains and associated funerary object should submit a written request with information in support of the request to Robert E. King, Bureau of Land Management, Alaska State Office, 222 W 7th Avenue, #13, Anchorage, AK 99513, telephone (907) 271-5510, email r2king@blm.gov, by August 23, 2021. After that date, if no additional requestors have come forward, transfer of control of the human remains and associated funerary object to the Qawalangin Tribe of Unalaska may proceed.

The U.S. Department of the Interior, Bureau of Land Management, Alaska State Office is responsible for notifying the Qawalangin Tribe of Unalaska that this notice has been published.

Dated: July 14, 2021.
Melanie O'Brien,
Manager, National NAGPRA Program.

[FR Doc. 2021-15566 Filed 7-21-21; 8:45 am]

BILLING CODE 4312-52-P